FEDERAL COMMUNICATIONS COMMISSION

47 CFR Part 73

[DA 00-2147; MM Docket No. 00-22; RM-9795]

Radio Broadcasting Services; Charlotte, TX

AGENCY: Federal Communications Commission.

ACTION: Final rule.

SUMMARY: This document allots Channel 272A to Charlotte, Texas, in response to a petition filed by Kay-Zam Radio Company. See 65 FR 8931, February 23, 2000. The coordinates for Channel 272A at Charlotte are 28-46-00 NL and 98-42-00 WL. There is a site restriction 10.7 kilometers (6.7 miles) south of the community. A filing window for Channel 272A at Charlotte will not be opened at this time. Instead, the issue of opening a filing window for this channel will be addressed by the Commission in a subsequent order.

DATES: Effective November 6, 2000.

FOR FURTHER INFORMATION CONTACT: Kathleen Scheuerle, Mass Media Bureau, (202) 418-2180.

SUPPLEMENTARY INFORMATION: This is a summary of the Commission's Report and Order, MM Docket No. 00-22, adopted September 13, 2000, and released September 22, 2000. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Texas, is amended by adding Charlotte, Channel 272A.

Federal Communications Commission.
John A. Karousos,
Chief, Allocations Branch, Policy and Rules Division, Mass Media Bureau.

[FR Doc. 00-25391 Filed 10-3-00; 8:45 am]

BILLING CODE 6712-01-P